NUCLEAR REGULATORY COMMISSION

[Docket No. 72-0009; NRC-2010-0188]

Notice of Availability of Environmental Assessment and Finding of No Significant Impact for the License Amendment for the Fort St. Vrain Independent Spent Fuel Storage Installation

AGENCY: Nuclear Regulatory Commission.

ACTION: Notice of availability.

FOR FURTHER INFORMATION CONTACT: Jean Trefethen, Project Manager, Environmental Review Branch A, Division of Waste Management and Environmental Protection, Office of Federal and State Materials and Environmental Management Programs, U.S. Nuclear Regulatory Commission, Washington, DC 20555. Telephone: 301-415-5137; Fax: 301-415-5369; e-mail: Jean.Trefethen@nrc.gov.

SUPPLEMENTARY INFORMATION:

I. Introduction

The U.S. Nuclear Regulatory Commission (NRC) is considering an application dated November 10, 2009, from the U.S. Department of Energy (DOE) for the renewal of the Special Nuclear Materials (SNM) License SNM-2504 for the Fort St. Vrain (FSV) Independent Spent Fuel Storage Installation (ISFSI) located in Platteville, Colorado. If granted, the renewed license will authorize DOE to continue to possess and store spent fuel and associated radioactive wastes at the FSV ISFSI. License SNM-2504 expires on November 30, 2011. This renewal, if granted, will extend the term of license SNM-2504 to November 30, 2031.

The NRC has prepared an Environmental Assessment (EA) as part of its review of this proposed license renewal in accordance with the requirements of 10 CFR part 51. Based on the EA, the NRC has determined that a Finding of No Significant Impact (FONSI) is appropriate. The NRC is also conducting a safety evaluation of this action, pursuant to 10 CFR part 72. The results of the safety evaluation will be documented in a separate Safety Evaluation Report. If DOE's request is approved, the NRC will issue a renewed license following the publication of this EA and FONSI.

II. EA Summary

The proposed licensing action is to renew license SNM-2504 for an additional 20 years to authorize the continued operation of the FSV ISFSI in Platteville, Colorado. If approved, DOE will be allowed to possess and store spent fuel and associated radioactive wastes at the FSV ISFSI until November 30, 2031.

The FSV ISFSI uses a Modular Vault Dry Storage (MVDS), which is a contained shield system designed for 40 years of interim storage of the FSV High Temperature Gas Cooled Reactor (HTGR) fuel. The FSV reactor was built and operated during the 1970s and 1980s. It was permanently shut down in 1989 and decommissioned. Some of the spent fuel is in dry storage at DOE's Idaho National Engineering Laboratory (INEL) facility. Facilities were not made available at INEL to store all the spent fuel and associated radioactive waste from the FSV reactor. Renewal of materials license SNM-2504 is needed for further safe storage of spent fuel at the FSV ISFSI.

The NRC has prepared an EA as part of its review of the proposed license renewal. The NRC staff considered the following environmental resource areas in its evaluation: Air quality; noise; land use; water use and quality; socioeconomics; historic, archaeological, and cultural resources; threatened and endangered species; scenic and visual; waste management; transportation; and public and occupational health and safety.

The environmental impacts of these resource areas were determined to be the small. The proposed license renewal request does not require altering the site footprint nor does it change the operating processes of the existing facility. The proposed action will not adversely affect Federal- or state-listed threatened or endangered species. Public and occupational radiological dose exposures have been and are expected to be below 10 CFR part 20 regulatory limits. Cumulative impacts over the 20-year renewal period were also evaluated and determined to be small. Therefore, the NRC staff concludes that the proposed action will not result in a significant effect on the quality of the human environment.

NRC staff consulted with other agencies regarding the proposed action, including regional Native American Tribes, the Colorado Department of Public Health and Environment, the Colorado Historical Society, and the U.S. Fish and Wildlife Service. The consultations ensured that the requirements of Section 7 of the Endangered Species Act and Section 106 of the National Historic Preservation Act were met and provided the designated State liaison agency the opportunity to comment on the proposed action.

III. Finding of No Significant Impact

On the basis of the EA, the NRC staff concludes that renewal of license SNM-2504 for the FSV ISFSI will not significantly affect the quality of the human environment. Therefore, pursuant to 10 CFR 51.31 and 51.32, an environmental impact statement is not warranted for the proposed action, and a FONSI is appropriate.

IV. Further Information

Documents related to this action, including the application for renewal of SNM-2504 and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are:

Document | ADAMS accession No.
DOE License Renewal Application | ML093230788
NRC letter to DOE—Request for Additional Information (RAI) | ML103260338
DOE letter to NRC—Response to RAI | ML110380111
Annual Radiological Environmental Monitoring Reports (2007, 2008, 2009) | ML070650337 (2007), ML080590359 (2008), ML090560534 (2009)
NRC letter to U.S. Fish and Wildlife Service | ML102880322
Letters from U.S. Fish and Wildlife Service to DOE and NRC | ML110380119(DOE), ML103340416(NRC)
NRC letter to Colorado Historical Society | ML102880361
Letters from Colorado Historical Society to DOE and NRC | ML110380132(DOE), ML110590901(NRC)
NRC letters to Colorado Department of Public Health and Environment | ML102880196, ML110420186
Letters from Colorado Department of Public Health and Environment to NRC | ML103260293, ML111110258
Letter to Colorado State Historic Preservation Officer from NRC.
Letter from Colorado State Historic Preservation Officer to DOE and NRC | ML110380132(DOE), ML110590901(NRC)
NRC Tribal Consultation Letters To:
Northern Cheyenne | ML103140530
Southern UTE Indian | ML103140298
Three Affiliated Tribes | ML103140358
Standing Rock Sioux | ML103140316
Northern Arapaho | ML103140496
Rosebud Sioux | ML103140281
San Ildefonso Pueblo | ML103140114
Santa Clara Pueblo | ML103140261
Apache Tribe of Oklahoma | ML103140072
Crow Creek Sioux | ML103140181
Crow Nation | ML103140202
Kiowa Tribe of Oklahoma | ML103140282
Pawnee Nation of Oklahoma | ML103140470
Shoshone | ML103140227
Fort Sill Apache | ML103140247
Jicarilla Apache Tribal Council | ML103140269
Ute Mountain Ute | ML103140378
Pueblo of Santa Ana | ML103140174
Comanche Tribal Business Committee | ML103140149
Zuni Pueblo | ML103140574
Pueblo de Cochiti | ML103140531
Ohkay Owingeh | ML103140570
Oglala Sioux | ML103140548
Cheyenne & Arapaho Tribes of Oklahoma | ML103130533
Mescalero Apache | ML103140458
Letter from Pawnee Nation of Oklahoma to NRC | ML110550709
1972 AEC Environmental Statement Related to Operation of the FSV NGS | ML110590923
1991 NRC Final Environmental Assessment Related to Construction of FSV ISFSI | ML062710252
2011 NRC Final Environmental Assessment for the License Renewal for FSV ISFSI | ML111110339

If you do not have access to ADAMS or if there are problems in accessing the documents located in ADAMS, contact the NRC Public Document Room (PDR) reference staff at 1-800-397-4209, 301-415-4737, or by e-mail to pdr.resource@nrc.gov.

These documents may also be viewed electronically on the public computers located at the NRC's Public Document Room (PDR), O1 F21, One White Flint North, 11555 Rockville Pike, Rockville, MD 20852. The PDR reproduction contractor will copy documents for a fee.

Dated at Rockville, Maryland, this 16th day of May, 2011.
For the Nuclear Regulatory Commission.
Andrew Persinko,
Deputy Director, Environmental Protection and Performance Assessment Directorate, Division of Waste Management and Environmental Protection, Office of Federal and State Materials and Environmental Management Programs.

[FR Doc. 2011-12960 Filed 5-24-11; 8:45 am]

BILLING CODE 7590-01-P